DEPARTMENT OF HEALTH AND HUMAN SERVICES

National Institutes of Health

National Library of Medicine; Notice of Meeting

Pursuant to section 10(d) of the Federal Advisory Committee Act, as amended (5 U.S.C. Appendix 2), notice is hereby given of the following meeting.

The meeting will be open to the public as indicated below, with attendance limited to space available. Individuals who plan to attend and need special assistance, such as sign language interpretation or other reasonable accommodations, should notify the Contact person listed below in advance of the meeting.

The meeting will be closed to the public in accordance with the provisions set forth in sections 552b(c)(4) and 552b(c)(6), Title 5 U.S.C., as amended. The grant applications and the discussions could disclose confidential trade secrets or commercial property such s patentable material, and personal information concerning individuals associated with the grant applications, the disclosure of which would constitute a clearly unwarranted invasion of personal privacy.

Name of Committee: Biomedical Library Review Committee.

Date: November 8-9, 2001.

Closed: November 8, 2001, 8:30 a.m. to 11:30 a.m.

Agenda: To review and evaluate grant applications.

Place: National Library of Medicine, Board Room Bldg. 38, 2E-09, 8600 Rockville Pike, Bethesda, MD 20894.

Open: November 8, 2001, 11:30 a.m. to 12 p.m.

Agenda: Administrative Reports and Program Discussion.

Place: National Library of Medicine, Board Room Bldg 38, 2E-09, 8600 Rockville Pike, Bethesda, MD 20894.

Closed: November 8, 2001, 1 p.m. to 1:30 p.m.

Agenda: To review and evaluate grant applications.

Place: National Library of Medicine, Board Room Bldg 38, 2E-09, 8600 Rockville Pike, Bethesda, MD 20894.

Open: November 8, 2001, 1:30 a.m. to 2 p.m.

Agenda: Remarks by the Director, NLM.

Place: National Library of Medicine, Board Room Bldg 38, 2E-09, 8600 Rockville Pike, Bethesda, MD 20894.

Closed: November 8, 2001, 2 p.m. to 5 p.m.

Agenda: To review and evaluate grant applications.

Place: National Library of Medicine, Board Room Bldg 38, 2E-09, 8600 Rockville Pike, Bethesda, MD 20894.

Contact Person: Merlyn M. Rodrigues, MD, PhD, Scientific Review Adm., National Library of Medicine, Extramural Programs, 6705 Rockledge Drive, Suite 301, Bethesda, MD 20894.

Any interested person may file written comments with the committee by forwarding the statement to the Contact Person listed on this notice. The statement should include the name, address, telephone number and when applicable, the business or professional affiliation of the interested person.

(Catalogue of Federal Domestic Assistance Program Nos. 93.879, Medical Library Assistance, National Institutes of Health, HHS)

Dated: October 4, 2001.
LaVerne Y. Stringfield,
Director, Office of Federal Advisory Committee Policy.

[FR Doc. 01-25805 Filed 10-12-01; 8:45 am]

BILLING CODE 4140-01-M